FEDERAL COMMUNICATIONS COMMISSION

Second Meeting of the Advisory Committee for the 2003 World Radiocommunication Conference (WRC-03 Advisory Committee)

AGENCY: Federal Communications Commission.

ACTION: Notice.

SUMMARY: In accordance with the Federal Advisory Committee Act, this notice advises interested persons that the second meeting of the WRC-03 Advisory Committee will be held on February 16, 2001, at the Federal Communications Commission. The purpose of the meeting is to continue preparations for the 2003 World Radiocommunication Conference. The Advisory Committee will consider any consensus views or proposals introduced by the Advisory Committee's Informal Working Groups.

DATES: February 16, 2001; 10 a.m.-12 noon.

ADDRESSES: Federal Communications Commission, 445 12th Street, SW., Room TW-C305, Washington DC 20554.

FOR FURTHER INFORMATION CONTACT: Julie Garcia, FCC International Bureau, Planning and Negotiations Division, at (202) 418-0763.

SUPPLEMENTARY INFORMATION: The Federal Communications Commission (FCC) established the WRC-03 Advisory Committee to provide advice, technical support and recommendations relating to the preparation of United States proposals and positions for the 2003 World Radiocommunication Conference (WRC-03). In accordance with the Federal Advisory Committee Act, Public Law 92-463, as amended, this notice advises interested persons of the second meeting of the WRC-03 Advisory Committee. The WRC-03 Advisory Committee has an open membership. All interested parties are invited to participate in the Advisory Committee and to attend its meetings. The proposed agenda for the second meeting is as follows:

Agenda

Second Meeting of the WRC-03 Advisory Committee, Federal Communications Commission, 445 12th Street, SW., Room TW-C305, Washington, DC 20554, February 16, 2001; 10 a.m.-12 noon

1. Opening Remarks.

2. Approval of Agenda.

3. IWG Reports.

4. Consideration of Consensus Views or Proposals.

5. Future Meetings.

6. Other Business.

Federal Communications Commission.
William F. Caton,
Deputy Secretary.

[FR Doc. 01-2285 Filed 1-25-01; 8:45 am]

BILLING CODE 6712-01-P